DEPARTMENT OF THE INTERIOR

Bureau of Land Management

[CA-660-00-1990-00; CACA20139 and CACA22901]

Transit Mixed Concrete Company Proposed Sand and Gravel Mining Operation, Soledad Canyon, Los Angeles County, CA

AGENCY: Bureau of Land Management, Department of the Interior, Palm Springs-South Coast Field Office, California Desert District.

ACTION: Notice of availability of Final Environmental Impact Statement.

SUMMARY: In compliance with the National Environmental Policy Act (NEPA) of 1969 and 40 CFR 1503.4, notice is hereby given that the Bureau of Land Management (BLM) has prepared a Final Environmental Impact Statement (EIS) for the Transit Mixed Concrete (TMC) Company Sand and Gravel Mining Project proposed for construction and operation off of Soledad Canyon Road and State Highway 14, in an unincorporated area of Los Angeles County, California.

Interested citizens are invited to review the Final EIS. Hard copies of the Final EIS may be obtained by telephoning or writing the contact persons listed below. The Technical Appendices and Volumes 1 through 6 are also available on CD-ROM. The CD-ROM is in Adobe Acrobat Reader format, and contains a free download of Acrobat Reader so it can be opened easily. Public reading copies are available at the following County of Los Angeles public libraries: Canyon Country Library (18536 Soledad Canyon Road, Santa Clarita); Newhall Library (22704 W. Ninth Street, Santa Clarita); and the Valencia Library (23743 W. Valencia Boulevard, Santa Clarita).

DATES: BLM will be rendering a decision on the proposed Project no sooner than July 3, 2000.

FOR ADDITIONAL INFORMATION CONTACT: Ms. Elena Misquez, BLM, Palm Springs-South Coast Field Office at (760) 251-4810. To obtain copies of the Final EIS, contact Ms. Linda Brody of Chambers Group Inc. at (949) 261-5414. Fax requests can be sent to the attention of Ms. Linda Brody at (949) 261-8950. Please specify either CD-ROM or the specific volume(s) desired (see Supplemental Information below). Please include name, complete mailing address (no P.O. Boxes), and phone number on all requests.

SUPPLEMENTARY INFORMATION: The Bureau of Land Management (BLM) has prepared a Final EIS for the Transit Mixed Concrete (TMC) Company Sand and Gravel Mining Project. The Project is proposed for construction and operation in an unincorporated area within Los Angeles County, north of Soledad Canyon Road, south of the Antelope Valley Freeway (State Highway 14), and west of Agua Dulce Canyon. TMC proposes to mine a total of 83 million tons of sand and gravel over a 20-year period. The Project site is located on “split-estate” lands where the surface is privately owned and the minerals are federally owned and administered by the BLM. The Draft EIS was released for public review on May 6, 1999, and the Supplement to the Draft EIS (SDEIS) was released November 17, 1999. The public comment period for both of these documents closed January 10, 2000.

The Final EIS incorporates changes based on public comments received on the Draft EIS, SDEIS, and technical appendices, including final conformity determination for air quality. The Final EIS also includes responses to written comments received during the public comment period for the DEIS and SDEIS, responses to the BLM public hearing held July 2, 1999, and responses to comments on Los Angeles County's Draft EIR for the Project. The Final EIS is comprised of the following volumes:

• Final EIS—Main Text Volume (incorporates changes to DEIS and SDEIS text)

• Final EIS—Technical Appendices Volume (incorporates changes to DEIS Appendices)

• Volume 1—Responses to Comments (Responses to all written and oral comments received on the DEIS, SDEIS, and DEIR)

• Volume 2—DEIS and SDEIS Written Comment Letters (includes federal, state, and local agencies, community groups, associations, consulting firms, and individual letters)

• Volume 3—BLM Public Hearing Transcript

• Volume 4—DEIR Written Comment Letters from State and Local Agencies, Community Groups, Associations, and Consulting Firms

• Volume 5—DEIR Written Comment Letters from Individuals/Petitions/Form Letters

• Volume 6—County DEIR Public Hearing Transcripts

Dated: May 23, 2000.
Danella George,
Acting Field Manager.

[FR Doc. 00-13440 Filed 5-26-00; 8:45 am]

BILLING CODE 4310-40-P